NUCLEAR REGULATORY COMMISSION

Advisory Committee On Nuclear Waste; Revised

The 159th Advisory Committee on Nuclear Waste (ACNW) meeting scheduled to be held on April 18-19, 2005, Room T-2B3, Two White Flint North, 11545 Rockville Pike, Rockville, Maryland had been changed. The agenda for the meeting on April 18, 2005, has been modified as noted below:

• 10:30 a.m.-10:40 a.m.: Opening Remarks by the ACNW Chairman (Open)—The Chairman will make opening remarks regarding the conduct of today's sessions.

• 10:40 a.m.-12 noon: Preparation of ACNW Reports/Letters (Open)—The Committee will discuss letters on Groundwater Recharge Model Abstraction and Validation, and Time-Period of Compliance for a Proposed High-Level Waste Geologic Repository.

• 1:30 p.m.-3 p.m.: NMSS Division Directors' Quarterly Program Update (Open)—The NMSS Division Directors will brief the Committee on recent activities of interest within their respective programs.

• 3 p.m.-3:45 p.m.: Low Level Waste Annual Update (Open)—NRC staff will brief the Committee on planned activities and emerging issues in the area of Low Level Waste.

• 4 p.m.-5 p.m.: ACNW White Paper on Low-Level Radioactive Waste (Open)—The Committee will comment on the draft outline for the proposed White Paper. In addition, the Committee will discuss progress on specific sections of this White Paper, for example Section 1, “Origins and History.”

• 5 p.m.-6 p.m.: Discussion of April 14-15, 2005, Visit to the Center for Nuclear Waste Regulatory Analyses (CNWRA) (Open)—An ACNW Subcommittee will report on the outcome of its recent visit to the CNWRA to review ongoing technical assistance work for NMSS' HLW programs.

All the other items remain the same as previously published in the Federal Register on Thursday, April 7, 2005 (70 FR 17722).

For further information, contact Mr. Richard K. Major (telephone 301-415-7366), between 8:15 a.m. and 6 p.m. e.t.

Dated: April 11, 2005.
Andrew L. Bates,
Advisory Committee Management Officer.

[FR Doc. E5-1782 Filed 4-14-05; 8:45 am]

BILLING CODE 7590-01-P